DEPARTMENT OF STATE

22 CFR Part 41

[Public Notice 3711]

Visas: Documentation of Nonimmigrants Under the Immigration and Nationality Act; Application for Nonimmigrant Visa: XIX Olympic Winter Games and VIII Paralympic Winter Games in Salt Lake City, UT, 2002

AGENCY: Department of State.

ACTION: Interim Rule with Request for Comments.

SUMMARY: The United States is hosting the XIX Olympic Winter Games and VIII Paralympic Winter Games in Salt Lake City, Utah in 2002. The processing of certain foreign nationals accredited to the Winter Games requires some temporary changes in established visa-processing procedures. These regulatory changes are designed to accommodate certain foreign-entry obligations as specified under the Olympic Charter for any country that seeks to host the Olympic Games.

DATES: Effective date: This rule is effective July 25, 2001.

Comment date: Written comments may be submitted on or before September 24, 2001.

ADDRESSES: Submit comments, in duplicate, to H. Edward Odom, Chief, Legislation and Regulations Division, Visa Services, Department of State, Washington, DC 20520-0106; or e-mail: odomhe@state.gov.

FOR FURTHER INFORMATION CONTACT: Ron Acker, Visa Regulations Coordinator, Legislation and Regulations Division, Visa Office, Room L603-C, SA-1, Department of State, Washington, D.C. 20520-0106, (202) 663-1205; or e-mail: ackerrl@state.gov.

SUPPLEMENTARY INFORMATION:

Why Are There Special Document Entry and Visa Procedures for the Winter Olympic and Paralympic Games?

Salt Lake City, Utah will host the XIX Olympic Winter Games from February 8 through February 24, 2002 and the VIII Paralympic Winter Games from March 7 through March 16, 2002. The Salt Lake Organizing Committee (SLOC) will officially accredit over 90,000 persons to both Games. Approximately 35,000 of these people will be foreign nationals entitled to special entry procedures developed to fulfill commitments made by the President to the International Olympic Committee (IOC) under the terms of the Olympic Charter.

The Olympic Charter states: “the Olympic identity card or accreditation card establishes the identity of its holder and constitutes the document authorizing entry into the country in which the city organizing the Olympic Games is situated.” The Charter additionally requires that the bearer of an Olympic identity card or accreditation card have in their possession an official document confirming their identity and nationality (a passport). For the purposes of the Olympic and Paralympic Winter Games, the Olympic identity card and accreditation card have been combined. Consequently, the Olympic Identity/Accreditation Card (OI/AC), and its counterpart for the Paralympic Winter Games, the Paralympic Identity/Accreditation Card (PI/AC), will serve as valid travel documents when used in conjunction with a foreign national's passport and when properly visaed under the terms set forth by this rule.

What Are “OFMs” and “PFMs?”

Once individuals have been accredited by SLOC, they are, for purposes of this rulemaking, “Olympic/Paralympic Family Members” (OFMs or PFMs). These persons include, but are not necessarily limited to:

(1) Athletes, coaches, trainers, support personnel;

(2) International judges and juries;

(3) Officials of the International Olympic Committee (IOC);

(4) Officials of the International Paralympic Committee (IPC);

(5) Officials of International Federations (IFs);

(6) Officials of National Olympic Committees (NOCs);

(7) Officials of the National Paralympic Committees (NPCs);

(8) Officials of other organizing committees for the Olympic and Paralympic Games (OCOGs);

(9) Accredited International media representatives;

(10) High-level executives of major sponsoring organizations; and

(11) Other certain official guests.

What Basic Changes to Normal Visa Processing Will Occur?

Any alien who is an OFM or PFM must be screened by the Department of State and other relevant government agencies as part of the process for admission to the United States. Given the large number of OFMs and PFMs arriving during the short span of time encompassed by the Winter Games, it is necessary to modify current processing procedures for these groups. Doing so will minimize the burden on U.S. consular posts abroad and will expedite visa processing in fulfillment of United States obligations to the IOC and IPC.

This rule establishes a formal clearance protocol managed through the Olympic Visa Information Database (OVID 2002) maintained by the Department of State and linked to appropriate USG security agencies and to SLOC. For the first time the visa process will be done almost completely electronically between those agencies in consultation with relevant consular posts abroad. The database maintained by the Department of State will include all relevant information needed to issue visas and digitized photos to Olympic/Paralympic Family Members on Olympic and Paralympic Identity/Accreditation Cards.

What Is OVID 2002?

OVID 2002 is a secure, encrypted, electronic interface between the Department of State's computerized visa systems and the official Olympic registration system (the Accreditation Database) operated by SLOC. OVID 2002 will enable the Department of State to download visa-related biographic data and digitized photographs for selected Olympic and Paralympic Family Members, and to conduct case-specific security clearances and visa processing as required by United States immigration law. It is being developed to meet all entry conditions required by the International Olympic Committee (IOC) while fully complying with United States Government (USG) national security responsibilities and immigration law. OVID 2002 employs current technology to build on the strengths and eliminate the weaknesses of the system that was used during the 1996 Olympic Games in Atlanta. Visas will be issued on Olympic & Paralympic Identity/Accreditation Cards produced for selected foreign national Olympians and Paralympians accredited to the Games by SLOC.

Who Is Responsible for Visa Issuance?

The American Embassy in Ottawa will be responsible for OVID 2002 visa issuance. The Department of State will send visa adjudication data on individual foreign nationals to the American Embassy in Ottawa after all USG security requirements have been met and so certified by consular officers at the Department of State. Access to OVID 2002 issuance data will be available to consular posts worldwide through CLASS (Consular Lookout and Support System), and to immigration officers at all US ports-of-entry via IBIS (Interagency Border Information System). Access by consular posts abroad will allow consular officers to verify if a Card has been “visaed.” This will be helpful in the event an Olympic or Paralympic Family Member has to apply for a regular visa due to a lost or stolen card, or because the Card has not been received from SLOC or the Responsible Organization. In such situations, consular officers will be able to expedite the issuance of a normal visa based upon a CLASS check.

How Will OVID 2002 Process Visas?

The following sets forth the visa processing protocol for OVID 2002:

(1) SLOC will mail out accreditation registration forms to Responsible Organizations. The accreditation registration forms will have serial numbers. They will be sent in paper, but there will be an electronic version that can be used as well.

(2) Responsible Organizations will return registration forms to SLOC either through the mail or electronically. Each paper registration application will require two passport photos. Each electronic submission will require a digitized photo. All registration applications will require the passport number and the expiration date of the passport.

(3) SLOC will digitize and scan registration application information, including photographs, into its accreditation database.

(4) The data will be passed to OVID 2002, which will be situated at a secure server located at the Department of State.

(5) Once the data for an individual is downloaded to OVID 2002, name checks will be run through the Department of State's CLASS system.

(6) Name check data will be passed to other certain USG agencies via a “Visas Hurricane” cable.

(7) Security checks will be verified within the Visa Office. Those cases without problems will be posted daily to OVID 2002. Those with problems will be handled individually in the Visa Office. SLOC will be advised periodically about the status of problem cases.

(8) All cases receiving full USG security clearance will be certified by a consular officer at the Department of State and passed via OVID 2002 to the American Embassy Ottawa for adjudication.

(9) Visas will be issued with an electronic approval.

(10) Notification of visa issuance will be passed back to OVID 2002 and onward to SLOC.

(11) SLOC will produce, and mail to Responsible Organizations, OI/ACs and PI/ACs containing a special alpha-numeric indicia representing visa issuance.

(12) Responsible Organizations will send the Cards to athletes (and other eligible applicants).

(13) Athletes will travel to the U.S. with Olympic/Paralympic Identity/Accreditation Cards and passports. The indicia on the Card will allow air carriers to distinguish that a foreign national is in possession of a “visaed” document and therefore does not require a regular visa.

(14) INS officers will inspect Cards at the port of entry. INS will check the applicant's status through its IBIS system to confirm that the applicant has been issued a visa.

(15) If otherwise qualified, the applicant will be admitted to the United States for the period January 8, 2002 until March 24, 2002 (Olympics) or February 7 until April 16, 2002 (Paralympics), or any portion thereof.

How Will Waivers Be Handled?

Waivers for persons who are ineligible for visa issuance will be processed electronically via OVID 2002 and through INS after consultations with appropriate law enforcement agencies. The granting of waivers will be noted electronically, but will not be indicated on the Card.

What are “Responsible Organizations?”

For the purposes of providing SLOC with relevant biographic data on each OFM and PFM, organizations responsible for the administration of the Olympic and Paralympic Games will be required to provide a written or electronic application to SLOC on behalf of each individual seeking accreditation. The following are those Responsible Organizations (ROs) authorized to provide SLOC with accreditation applications on behalf of OFMs and PFMs:

(1) The International Olympic Committee (IOC);

(2) The International Paralympic Committee (IPC);

(3) National Olympic Committees for each country participating in the Olympic Games (NOCs);

(4) National Paralympic committees for each country participating in the Paralympic Games (NPCs);

(5) International Federations representing specific sports (IFs) (such as FIFA, the international governing body for soccer);

(6) Other Organizing Committees for the Olympic and Paralympic Games (OCOGs) (Organizing Committees hosting or seeking to host future Olympic Games);

(7) Major sponsors of the Olympic and Paralympic Games (Partners) (responsible for a relatively small number of accreditations for the highest-level executives of the major Olympic and Paralympic sponsoring organizations);

(8) Rights Holding Broadcasters (RTHolder);

(9) Accredited International Press or Agencies (Agency).

How Will the Department of State Handle Visa Fees?

As is customary for all Olympic and Paralympic Games, OFMs and PFMs will be exempted from visa processing and issuance fees.

How Will the Department of State Modify the Requirements for the Filing of a Visa Application and Personal Appearance Before a Consular Officer?

Generally, the Immigration and Nationality Act states at section 222(c) (8 U.S.C. 1202(c)) that each applicant shall have a visa application in whatever form by regulations are prescribed. In the case of the Salt Lake Games, the regulations will allow that an OFM or PFM will neither need to submit an application in the usually required locations, or with the standard visa application form, or make a personal appearance.

Specifically, 22 CFR 41.101 requires an alien to apply for a nonimmigrant visa in the consular district in which he or she resides, whether or not physically present there at that time, or where the alien is physically present regardless of place of residence. However, 22 CFR 41.102(a)(7) states that any nonimmigrant visa applicant may have the personal appearance waived if the consular officer finds that it is in the “national interest” to do so. Also, under 22 CFR 41.103(a)(3)(ii), if the personal appearance requirement has been waived, the “consular officer” may also waive submission of the Form OF-156 visa application if it is found to be in the “national interest.” For the purposes of the 2002 Olympic and Paralympic Games, the term “consular officer” will include the Deputy Assistant Secretary of State for Visa Services, who will be authorized to determine national interest exceptions relating to the XIX Olympic Winter Games and VIII Paralympic Winter Games.

In addition, this rule grants the Deputy Assistant Secretary of State for Visa Services the authority to designate a consular post, or posts, to process visas for OFMs and PFMs regardless of the residence or physical presence of the OFMs and PFMs. This will allow for the most efficient utilization of consular services, which will be further enhanced since the vast majority of such applications will be processed electronically.

Normally, Visa Applicants Have To Present Their Passports at the Time of Visa Application. How Will the Department of State Handle This Requirement?

The passport requirement at 22 CFR 41.104(b) requires visa applicants to present their passport at the time of application for the visa. Under this rulemaking, the Department will not require OFMs and PFMs to present their passports to a consular officer at any point during the visa adjudication process. The passport number and passport expiration date will be supplied by SLOC as part of the accreditation process. This data will be passed to OVID 2002 as part of the required security clearance protocol. OFMs and PFMs will be required to present passports at the time of entry to the United States. The passports will be verified with the passport data that was supplied to SLOC as part of initial registration process.

In What Form Will the Visa Appear on the OI/AC or PI/AC?

The general format requirements for a visa are set forth at 22 CFR 41.113. The Salt Lake Olympics and Paralympics, however, will not be subject to all requirements therein. For example, instead of a visa being affixed in an alien's passport, the issuance of a visa will be evidenced on the OI/AC or PI/AC, as provided for at 22 CFR 41.113(b)(4). A visa indicia signifies that visa adjudication has been successfully completed and all information used to adjudicate the alien's visa to completion is maintained electronically in the OVID 2002 database.

What Data Will Be Available on the OI/AC and PI/AC?

When printed, the OI/AC or PI/AC will contain at a minimum (and in addition to the indicia representing visa issuance), the following information pertaining to the bearer:

(1) Family name;

(2) Given name;

(3) Date of birth;

(4) Country of birth;

(5) Nationality;

(6) Gender;

(7) The alien's Olympic or Paralympic function;

(8) The Responsible Organization for the alien;

(9) The alien's passport number and expiration date of said passport; and

(10) A digitized photo of the alien.

What Will Be the Validity Period of the Visa Issued on an OI/AC or PI/AC?

To comply with the terms of the Olympic Charter, visas issued on the OI/AC and PI/AC will permit bearers to enter the United States starting one month prior to opening ceremonies through one month after closing ceremonies. Additionally, in limited cases, some Olympic and Paralympic Family Members may need to enter, depart, and subsequently reenter the United States during the Games. Accordingly, 41.112 is amended to reflect a specific validity period for visas issued on the OI/AC and PI/AC.

How Are Visa Revocations Going To Be Handled?

Any visa issued under § 41.113(i) necessarily will be subject to revocation in the event the beneficiary's Olympic or Paralympic accreditation is withdrawn after the visa indicia has been placed on the Olympic Identity/Accreditation Card or Paralympic Identity/Accreditation Card. In such instances, the visa applicant would no longer be entitled to the nonimmigrant classification for which the visa was originally intended. The provisions of § 41.113(i) are designed to permit the holder to visit the United States for the purpose of participating in or observing either the XIX Olympic Winter Games or VIII Paralympic Winter Games as an accredited guest of the Salt Lake Organizing Committee. Applicants who lose Olympic or Paralympic accreditation also lose access to the Olympic Village or Paralympic Village as well as the official support of the host city. Consequently, paragraph § 41.122(h) is being added to make clear the responsibility of consular officers to revoke visas that have been issued on OI/ACs and PI/ACs if the bearer is no longer entitled to the benefits that would otherwise be extended through possession of a valid card.

Interim Rule

Administrative Procedure Act

The Department is implementing this rule as an interim rule, with a 60-day provision for post-promulgation public comments, based on the “good cause” exceptions found at 5 U.S.C. 553(b)(B) and 553(d)(3). The Department considers this rule to be beneficial to the general public since it will provide enhanced visa facilitation in connection with the 2002 Winter Olympic and Paralympic Games. In addition, this rule grants and recognizes an exemption or relief from restrictions within the scope of 5 U.S.C. 5553(d)(1). The Department finds it necessary to implement this rule effective immediately in order to establish appropriate procedures for processing visas on Olympic and Paralympic Identity/Accreditation Cards beginning early September 2001.

Regulatory Flexibility Act

The Department of State, in accordance with the Regulatory Flexibility Act (5 U.S.C. 605(b)), has reviewed this regulation and, by approving it, certifies that this rule will not have a significant economic impact on a substantial number of small entities.

Unfunded Mandates Reform Act of 1995

This rule will not result in the expenditure by State, local and tribal governments, in the aggregate, or by the private sector, of $100 million or more in any year and it will not significantly or uniquely affect small governments. Therefore, no actions were deemed necessary under the provisions of the Unfunded Mandates Reform Act of 1995.

Small Business Regulatory Enforcement Fairness Act of 1996

This rule is not a major rule as defined by section 804 of the Small Business Regulatory Enforcement Act of 1996. This rule will not result in an annual effect on the economy of $100 million or more; a major increase in costs or prices; or significant adverse effects on competition, employment, investment, productivity, innovation, or on the ability of United States-based companies to compete with foreign-based companies in domestic and export markets.

Executive Order 13132

This regulation will not have substantial direct effects on the States, on the relationship between the national government and the States, or on the distribution of power and responsibilities among the various levels of government. Therefore, in accordance with section 6 of Executive Order 13132, it is determined that this rule does not have sufficient federalism implications to warrant the preparation of a federalism summary impact statement.

Paperwork Reduction Act

This rule does not impose any new reporting or record-keeping requirements. The information collection requirement (Form OF-156) contained by reference in this rule was previously approved for use by the Office of Management and Budget (OMB) under the Paperwork Reduction Act.

List of Subjects in 22 CFR Part 41

Aliens, Documentation, Nonimmigrants, Passports and Visas.

PART 41—[AMENDED]

1. The authority citation is revised to read:

Authority: 8 U.S.C. 1104; 8 U.S.C. 1181, 1201, 1202; Pub. L. 105-277, 112 Stat. 2681 et seq.

Part 41, Subpart J—Application for Nonimmigrant Visa is amended as follows:

2. Add new paragraph (g) to § 41.101 to read as follows:

§ 41.101 Place of application.

* * * * *

(g) Olympic Winter Games and VIII Paralympic Winter Games in Salt Lake City, Utah in 2002. (1) Notwithstanding paragraph (a) of this section, consular officers at consular posts designated by the Deputy Assistant Secretary of State for Visa Services shall accept applications for nonimmigrant visas for certain aliens who are accredited by the Salt Lake Organizing Committee as “Olympic and Paralympic Family Members,” as defined in paragraph (g)(2) of this section, without regard to the alien's residence or physical presence provided the consular officer has received from the Salt Lake Organizing Committee through the Department of State confirmation of accreditation and information necessary to complete visa adjudications. Adjudications must be made no earlier than September 1, 2001 and not later than March 16, 2002.

(2) The definition of “Olympic Family Member” and “Paralympic Family Member” shall include, but not necessarily be limited to:

(i) Athletes, coaches, trainers, support personnel;

(ii) International judges and juries;

(iii) Officials of the International Olympic Committee (IOC);

(iv) Officials of the International Paralympic Committee (IPC);

(v) Officials of International Federations (IFs);

(vi) Officials of National Olympic Committees (NOCs);

(vii) Officials of the National Paralympic Committees (NPCs);

(viii) Officials of other organizing committees for the Olympic and Paralympic Games (OCOGs); and

(ix) Certain official guests, international media representatives, and high-level executives of sponsoring organizations.

3. Add a new paragraph (c) to § 41.102 to read as follows:

§ 41.102 Personal appearance of applicant.

* * * * *

(c) XIX Olympic Winter Games and VIII Paralympic Winter Games in Salt Lake City, Utah in 2002. (1) For purposes of the XIX Olympic Winter Games and VIII Paralympic Winter Games in Salt Lake City, Utah in 2002, the reference made to “the consular officer” in paragraph (a)(7) of this section is interpreted to include the Deputy Assistant Secretary of State for Visa Services.

(2) The Deputy Assistant Secretary of State for Visa Services is authorized to make a blanket determination that a waiver of personal appearance for all “Olympic Family Members” and “Paralympic Family Members” accredited by the Salt Lake Organizing Committee (see § 41.101(f)(2)) is in the national interest.

4. Amend § 41.103 by adding new paragraph (c) to read as follows:

§ 41.103 Filing an application and Form OF-156.

* * * * *

(c) XIX Olympic Winter Games and VIII Paralympic Winter Games in Salt Lake City, Utah in 2002. (1) For purposes of the XIX Olympic Winter Games and VIII Paralympic Winter Games in Salt Lake City, Utah in 2002, the reference made to “the consular officer” in paragraph (a)(3)(ii) of this section is interpreted to include the Deputy Assistant Secretary of State for Visa Services.

(2) The Deputy Assistant Secretary of State for Visa Services is authorized to make a blanket determination that a waiver of the filing of an application on Form OF-156 for all “Olympic Family Members” and “Paralympic Family Members” accredited by the Salt Lake Organizing Committee (see § 41.101(f)(2)) is in the national interest.

5. Add a new paragraph (e) to § 41.104 to read as follows:

§ 41.104 Passport requirements.

* * * * *

(e) XIX Olympic Winter Games and VIII Paralympic Winter Games in Salt Lake City, Utah in 2002. Notwithstanding paragraph (b) of this section, consular officers at the American Embassy in Ottawa, Canada shall process visa applications submitted on behalf of those “Olympic Family Members” and “Paralympic Family Members” (see § 41.101(f)(2)) who have received Olympic accreditation from the Salt Lake Olympic Committee through OVID 2002 without requiring the presentation of a passport.

6. Add a new paragraph (f) to § 41.107 to read as follows:

§ 41.107 Visa fees.

* * * * *

(f) Notwithstanding subsection (a) and (e) of this section, the fees prescribed in items 55 and 57 of § 22.1 of this chapter are not required for any accredited “Olympic Family Member” or “Paralympic Family Member” to whom a United States visa has been issued on the applicant's OI/AC or PI/AC and which is intended for use in conjunction with a valid passport.

7. Amend § 41.112 by revising paragraph (b)(1) and adding paragraph (f) to read as follows:

§ 41.112 Validity of Visa.

* * * * *

(b) Validity of visa and number of applications for admission. (1) Except as provided in paragraphs (c) and (d) of this section, a nonimmigrant visa shall have the validity prescribed in schedules provided to consular officers by the Department, reflecting insofar as practicable the reciprocal treatment accorded U.S. nationals, U.S. permanent residents, or aliens granted refugee status in the U.S. by the government of the country of which the alien is a national, permanent resident, refugee or stateless resident.

* * * * *

(f) Validity of visas, issued on Olympic and Paralympic Identify/Accreditation Cards. For the purposes of the XIX Olympic Winter Games, a visa issued on the Olympic Identity/Accreditation Card shall be valid for multiple entries into the United States from January 8, 2002 until March 24, 2002. For the purposes of the VIII Paralympic Winter Games, a visa issued on the Paralympic Identity/Accreditation Card shall be valid for multiple entries into the United States from February 7, 2002 until April 16, 2002.

8. Add new paragraphs (i) through (k) to § 41.113 to read as follows:

§ 41.113 Procedures for visa processing.

* * * * *

(i) Exception for XIX Olympic Winter Games and VIII Paralympic Winter Games in Salt Lake City, Utah in 2002. In the case of an alien who is an accredited “Olympic Family Member” or “Paralympic Family Member” (see § 41.101(f)(2)) of the XIX Olympic Winter Games or VIII Paralympic Winter Games in Salt Lake City, Utah in 2002, such alien will neither be required to have a visa stamp in his or her passport nor be required to carry an OF-232. Instead, an indicia on the “Olympic Identity/Accreditation Card” (OI/AC) or Paralympic Identity/Accreditation Card” (PI/AC), when presented in conjunction with a valid passport, will constitute prima facie evidence that a consular officer has issued a visa to the alien. This indicia will be placed on the OI/AC only after:

(1) A consular officer has adjudicated visa eligibility and,

(2) The Department of State has created an electronic file on the alien containing the information required by subsection (c) of this section, including information gained by the Department of State's security checks, a record of the issuance of any waiver, the final result of the visa adjudication, and any other information related to the visa issuing process.

(j) Additional data requirements. In addition to the visa indicia, the OI/AC or PI/AC shall also include, at a minimum, the following:

(1) Family name;

(2) Given name;

(3) Date of birth;

(4) Country of birth;

(5) Nationality;

(6) Gender;

(7) The alien's Olympic or Paralympic function;

(8) The Responsible Organization for the alien;

(9) The alien's passport number and expiration date of said passport; and

(10) A digitized photo of the alien.

(k) Classification of visas issued on Olympic and Paralympic Identity/Accreditation Cards. The classification of visas issued on the OI/AC shall be either “B-1/B-2” (visitor for business/pleasure) or “I” (information media representative) depending on the Olympic functions as set forth in the following tables.

Table 1.—2002 Winter Olympic Games
Visa classification | Sub-category | Description of sub-category accreditees
B-1/B-2 | AA | ATHLETES.
B-1/B-2 | AC | CHEFS DE MISSION & ATTACHES.
B-1/B-2 | AM | TEAM MEDICAL OFFICIALS.
B-1/B-2 | AO | TEAM OFFICIALS.
B-1/B-2 | AS | TEAM OFFICIALS NOT RESIDING IN VILLAGE.
B-1/B-2 | B | IOC STAFF, IF EXECUTIVE BOARD MEMBERS, IOC COMMISSION MEMBERS, ETC.
B-1/B-2 | B* | B ACCOMPANYING GUESTS.
I | E | JOURNALISTS.
I | EC | MAIN PRESS CENTER SUPPORT PERSONNEL.
I | ENR | NON RIGHTSHOLDING BROADCASTERS.
I | EP | PHOTOGRAPHERS.
I | ET | MEDIA TECHNICIANS.
B-1/B-2 | G | HONORED GUESTS.
B-1/B-2 | G* | G ACCOMPANYING GUESTS.
B-1/B-2 | GI | DISTINGUISHED GUESTS.
B-1/B-2 | GI* | GI ACCOMPANYING GUESTS.
B-1/B-2 | IF | INTERNATIONAL FEDERATION EXECUTIVES.
B-1/B-2 | IF* | IF ACCOMPANYING GUESTS.
B-1/B-2 | IOC | INTERNATIONAL OLYMPIC COMMITTEE MEMBERS & SENIOR STAFF.
B-1/B-2 | IOC* | IOC ACCOMPANYING GUESTS.
B-1/B-2 | J | IF JURY MEMBERS AND REFEREES.
B-1/B-2 | NOC | NATIONAL OLYMPIC COMMITTEE EXECUTIVES.
B-1/B-2 | NOC* | NOC ACCOMPANYING GUESTS.
B-1/B-2 | OBS | OBSERVERS FROM FUTURE GAMES.
B-1/B-2 | OC | FUTURE OLYMPIC GAMES EXECUTIVES.
B-1/B-2 | OC* | OC ACCOMPANYING GUESTS.
I | RTA | SENIOR BROADCAST PERSONNEL.
I | RTB | BROADCAST PERSONNEL.
I | RTC | IBC BROADCAST PERSONNEL.
B-1/B-2 | TOP | SENIOR TOP SPONSOR EXECUTIVES.
B-1/B-2 | TOP* | TOP ACCOMPANYING GUESTS.

Table 2.—2002 Winter Paralympic Games
Visa classification | Sub-category | Description of sub-category accreditees
B-1/B-2 | AA | ATHLETES.
B-1/B-2 | AC | CHEFS DE MISSION & ATTACHES.
B-1/B-2 | AO | TEAM OFFICIALS.
B-1/B-2 | AS | TEAM OFFICIALS NOT RESIDING IN VILLAGE.
B-1/B-2 | B | IPC STAFF, IPC COMMISSION MEMBERS, SPORT TECHNICAL DELEGATES.
I | M | WORKING MEDIA (INCLUDING BROADCASTERS).
B-1/B-2 | G | PARALYMPIC FAMILY GUESTS.
B-1/B-2 | IF | INTERNATIONAL FEDERATION EXECUTIVES.
B-1/B-2 | IF* | IF ACCOMPANYING GUESTS.
B-1/B-2 | IPC | INTERNATIONAL OLYMPIC COMMITTEE MEMBERS & SENIOR STAFF.
B-1/B-2 | J | COMPETITION OFFICIALS AND CLASSIFIERS.
B-1/B-2 | NPC | NATIONAL PARALYMPIC COMMITTEE EXECUTIVES.
B-1/B-2 | OBS | OBSERVERS FROM FUTURE GAMES.

9. Add new paragraphs (i) and (j) to § 41.122 to read as follows:

§ 41.122 Revocation of visas.

* * * * *

(i) For the purposes of the XIX Olympic Winter Games and VIII Paralympic Winter Games, a consular officer must revoke under paragraph (a)(1) of this section any visa processed under § 41.113(i) upon notification by the Salt Lake Organizing Committee that:

(1) Olympic or Paralympic accreditation has been withdrawn following visa issuance, or,

(2) Any of the following data elements as they appear on the Olympic Identity/Accreditation Card (OIAC) or Paralympic Identity Card (PIAC) is modified subsequent visa issuance:

(i) Family name;

(ii) Given name;

(iii) Date of birth;

(iv) Country of birth;

(v) Nationality;

(vi) Gender;

(vii) Passport number; or,

(3) At the discretion of the consular officer where it is determined that the Olympic or Paralympic Family Member seeking visa issuance is not qualified for the visa status applied for.

(j) The revocation of any visa processed under § 41.113(i) must be registered electronically in the Department's Olympic Visa Information Database (OVID 2002) and must include the date and time of revocation, the reason for revocation, and the name of the consular officer revoking the visa.

Dated: June 20, 2001.
Mary A. Ryan,
Assistant Secretary of State for Consular Affairs, Department of State.

[FR Doc. 01-18424 Filed 7-24-01; 8:45 am]

BILLING CODE 4710-06-U